GENERAL ACCOUNTING OFFICE

Commercial Activities Panel

AGENCY: General Accounting Office.

ACTION: Notice and request for comments.

SUMMARY: Under section 832 of the National Defense Authorization Act for Fiscal Year 2001, the Comptroller General is required to convene a panel of experts to study the transfer of commercial activities currently performed by government employees to federal contractors, a procedure commonly known as “contracting out” or “outsourcing.” To ensure a broad array of views on the panel, this notice seeks suggestions on the panel's composition. The panel must include representatives from the Department of Defense, private industry, federal labor organizations, and the Office of Management and Budget, although other representatives or individuals may be selected as well. All interested parties, including federal government agencies, federal employees or their representatives, contractors, industry groups, labor unions, and individuals are encouraged to submit suggestions on the composition of the panel. The Comptroller General will consider all submissions prior to appointing the panel. The formation of the panel will be announced in a subsequent Federal Register notice early in 2001. The authorization act requires the Comptroller General to submit the report of the panel on the results of the study to Congress by May 1, 2002.

DATES: Submit comments and submissions on or before January 2, 2001.

ADDRESSES: Send comments and submissions to the General Accounting Office, Office of General Counsel, Room 7476, 441 G St. NW., Washington, DC 20548, Attention: William T. Woods. Submit electronic comments via e-mail to: A76panel@gao.gov. See SUPPLEMENTARY INFORMATION for other information about electronic filing.

FOR FURTHER INFORMATION CONTACT: William T. Woods, Project Director, (202) 512-8214; e-mail: woodsw@gao.gov.

SUPPLEMENTARY INFORMATION: Section 832 of the National Defense Authorization Act for Fiscal Year 2001, Public Law 106-398, October 30, 2000, directs the Comptroller General of the United States to convene a panel of experts to study the policies and procedures governing the transfer of commercial activities for the federal government from government personnel to a federal contractor. The panel's study is to include a review of (1) procedures for determining whether functions should continue to be performed by government personnel, (2) procedures for comparing the costs of performing functions by government personnel with the costs of performing those functions by federal contractors, (3) implementation by the Department of Defense of the Federal Activities Inventory Reform Act of 1998 (Pub. L. 105-270, 112 Stat. 2382, 31 U.S.C. 501 note), and (4) procedures of the Department of Defense for public-private competitions under Office of Management and Budget Circular A-76. By May 1, 2002, the Comptroller General must submit to Congress a report of the panel on the results of the study, including recommended changes with regard to implementing policies and enactment of legislation.

The Act requires the Comptroller General or a person within GAO designated by him to serve as the panel's chairman. The Comptroller General must appoint highly qualified and knowledgeable persons to serve on the panel and must ensure that the following entities receive fair representation on the panel: (1) The Department of Defense, (2) persons in private industry, (3) federal labor organizations, and (4) the Office of Management and Budget.

The GAO is in the initial stages of forming a panel to conduct this study. To ensure the entities specified in the Act and others receive fair representation on the panel, the GAO seeks public input on the panel's composition. The GAO invites interested parties to submit suggestions on who should serve on the panel, specific agencies and organizations that should be represented, and the qualifications of panel members. Nominations of particular individuals who should be considered for the panel also may be submitted. Please include the name and phone number of the person to be contacted for clarification or additional information. GAO anticipates that the panel, once formed, will solicit substantive comments on the issues to be reviewed through public hearings or other means. Therefore, substantive comments on the issues to be addressed are not solicited at this time.

Electronic Access and Filing

This notice is available on GAO's website at http://www.gao.gov under “Commercial Activities Panel.” Comments and suggestions on the panel's composition may be submitted by sending e-mail to: A76panel@gao.gov.

Dated: November 27, 2000.
Jack L. Brock, Jr.,
Managing Director, Acquisition and Sourcing Management, General Accounting Office.

[FR Doc. 00-30676 Filed 11-30-00; 8:45 am]

BILLING CODE 1610-02-P